DEPARTMENT OF HEALTH AND HUMAN SERVICES

Administration for Community Living

[CFDA Number: 84.133B-6]

Final Priority. National Institute on Disability, Independent Living, and Rehabilitation Research—Rehabilitation Research and Training Centers

AGENCY: Administration for Community Living, Department of Health and Human Services.

ACTION: Final priority.

SUMMARY: The Administrator of the Administration for Community Living announces a priority for the Rehabilitation Research and Training Center (RRTC) Program administered by the National Institute on Disability, Independent Living, and Rehabilitation Research (NIDILRR). Specifically, we announce a priority for an RRTC on Outcomes Measurement for Home and Community Based Services. The Administrator of the Administration for Community Living may use this priority for competitions in fiscal year (FY) 2015 and later years. We take this action to focus research attention on an area of national need. We intend for this priority to contribute to improved home and community based services for individuals with disabilities.

DATES: Effective Date: This priority is effective June 22, 2015.

FOR FURTHER INFORMATION CONTACT: Marlene Spencer, U.S. Department of Health and Human Services, 400 Maryland Avenue SW., Room 5133, Potomac Center Plaza (PCP), Washington, DC 20202-2700. Telephone: (202) 245-7532 or by email: marlene.spencer@acl.hhs.gov.

If you use a telecommunications device for the deaf (TDD) or a text telephone (TTY), call the Federal Relay Service (FRS), toll free, at 1-800-877-8339.

SUPPLEMENTARY INFORMATION: Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas as specified by NIDILRR. These activities are designed to benefit rehabilitation service providers, individuals with disabilities, family members, policymakers and other research stakeholders. Additional information on the RRTC program can be found at: http://www2.ed.gov/programs/rrtc/index.html#types.

Program Authority: 29 U.S.C. 762(g) and 764(b)(2)(A).

Applicable Program Regulations: 34 CFR part 350.

We published a notice of proposed priority (NPP) for this program in the Federal Register on February 25, 2015 (80 FR 10099). That notice contained background information and our reasons for proposing the particular priority.

There are differences between the proposed priority and this final priority.

Public Comment: In response to our invitation in the notice of proposed priority, one party submitted comments on the proposed priority.

Generally, we do not address technical and other minor changes. In addition, we do not address general comments that raised concerns not directly related to the proposed priority.

Analysis of the Comments and Changes: An analysis of the comments and of any changes in the priority since publication of the NPP follows.

Comment: One commenter asked whether the RRTC's work should apply to elderly users of home and community based services (HCBS), as well as people with disabilities who use HCBS.

Discussion: NIDILRR's priority does not specify the age range of people with disabilities who are to be the focus of the RRTC's work. Throughout the priority we refer to people with disabilities, or people with disabilities who use or receive HCBS. NIDILRR's ultimate intent is to build HCBS outcomes measurement capacity that is relevant to HCBS recipients of all ages. Given the early stage of outcomes development work in this area, the limited resources of this RRTC, and the broad populations served by HCBS, it is up to applicants to describe their target population(s) of HCBS users. The peer review process will determine the merits of each application.

Changes: None.

Comment: One commenter agreed with the priority's requirement that measures to be developed by the RRTC should minimize data collection burden on HCBS recipients. At the same time, the commenter noted the critical importance of gathering information directly from HCBS users to determine the impact of those services on the quality of their lives. The commenter cautioned NIDILRR and the eventual RRTC against minimizing data collection burden to such an extent that data on HCBS users' experiences and outcomes aren't available for such quality improvement purposes.

Discussion: NIDILRR agrees with the commenter that gathering outcomes information directly from HCBS recipients is critically important. The priority consistently emphasizes the importance of creating outcome measurement tools that focus on HCBS users' experiences and outcomes. By requiring the RRTC to minimize data collection burden on HCBS end users, NIDILRR is simply recognizing the potential for lengthy, duplicative, and overly burdensome data collection methods. With this requirement we are also highlighting the existence of advanced item-scaling and person-centered measurement techniques such as computerized adaptive tests, as well as the existence of administrative data that can be relevant to the measurement of person-centered outcomes.

Changes: None.

Comment: One commenter noted that different groups of HCBS users have different needs, and that the importance placed on different outcome domains may vary across subgroups of HCBS users. The commenter questioned whether the measures developed by the RRTC should be tailored to the needs of subgroups of HCBS users.

Discussion: NIDILRR agrees with the commenter that different subgroups of HCBS users may have outcome domains that are particularly important to them. Given the early stage of outcomes development work in this area, the limited resources of this RRTC, and the broad populations served by HCBS, it is up to applicants to describe their target population(s) of HCBS users. It is also up to applicants to describe the extent to which their proposed outcomes development work will address potential variation in how subgroups prioritize different HCBS outcome domains. The peer review process will determine the merits of each application.

Changes: None.

Comment: One commenter asked whether NIDILRR intends the RRTC to evaluate interventions to determine whether they are associated with positive HCBS outcomes.

Discussion: NIDILRR does not intend the RRTC to evaluate interventions to determine whether they are associated with positive HCBS outcomes. The primary intent of the research requirements under paragraph (a) is the development and testing of HCBS outcome measures—which will serve as infrastructure for future testing of interventions.

Changes: NIDILRR has made minor modifications to paragraph (a) to clarify that our intent for this RRTC is the development and testing of HCBS outcome measures—and not the testing of HCBS interventions.

Comment: One commenter recommended that the RRTC be required to provide technical assistance to a range of stakeholders, with the aim of promoting the use of new HCBS outcomes measures and resulting data for HCBS system improvement.

Discussion: NIDILRR agrees that technical assistance toward promoting the use of new HCBS outcomes measures is an important task for the RRTC. In the opening paragraph of the priority we state that “Ultimately, the RRTC's development of non-medical, person-centered outcome measures is intended to inform the design, implementation, and continuous improvement of Federal and state policies and programs related to the delivery of HCBS to people with disabilities.” Paragraph (b)(3) requires direct collaboration with a wide range of stakeholder groups to develop, evaluate, or implement strategies to increase the use of new HCBS outcomes measures. Similarly, paragraph (c)(1) requires the provision of technical assistance related to HCBS outcome and measurement.

Changes: None.

Comment: One commenter recommended that the RRTC develop data formats that are accessible to a range of stakeholders.

Discussion: The primary aim of this priority is the development and testing of person-centered HCBS outcome measures that generate data that is reliable, valid, and usable. This foundational work of creating reliable and valid HCBS outcomes measures precedes the development of databases and multiple data formats. While some applicants may choose to specify the formats of data that new outcomes measures can generate, the RRTC has no basis for requiring all applicants to take this step.

Changes: None.

Final Priority

The Administrator of the Administration for Community Living establishes a priority for the RRTC on Outcomes Measurement for Home and Community Based Services. The RRTC will engage in research, development, and testing of measures to assess the quality of HCBS in terms of the person-centered outcomes achieved by people with disabilities who use the services in home and community settings. The RRTC will also engage in knowledge translation, development of informational products, and dissemination to enhance the field's capacity to measure the extent to which HCBS leads to improved outcomes in community living and independent living areas that are important to people with disabilities and other stakeholders.

Ultimately, the RRTC's development of non-medical, person-centered outcome measures is intended to inform the design, implementation, and continuous improvement of Federal and state policies and programs related to the delivery of HCBS to people with disabilities. The RRTC must contribute to these outcomes by:

(a) Identifying or developing measures, and then testing the reliability, validity, and usability of those proposed measures to assess the person-centered outcomes of individuals with disabilities who are receiving home and community-based services. HCBS measures developed under this priority must be non-medical and must focus on the end-users' experience of community living, independent living, social integration, community participation, and other similar outcomes. The measures developed under this priority must also be designed to minimize data collection burden on HCBS recipients. Possible methods for minimizing this burden include, but are not limited to, use of relevant administrative data, modifying administrative data to include person-centered goals as well as fields to assess progress toward those goals, and use of advanced item-scaling and person-centered measurement techniques that can be implemented as computerized adaptive tests (CAT).

(b) Increasing incorporation of the RRTC's HCBS outcome measures into practice and policy. The RRTC must contribute to this outcome by—

(1) Working closely with NIDILRR and the Administration for Community Living (ACL) at each stage of the measure development and testing processes to ensure that its activities are informing and informed by other HCBS quality initiatives taking place within ACL and other relevant Federal and state agencies. This specifically includes the work taking place under the National Quality Forum's work with the Department of Health and Human Services (http://www.qualityforum.org/ProjectDescription.aspx?projectID=77692).

(2) Developing procedures and mechanisms for applying HCBS outcome measures in policy and service delivery settings to maximize quality and appropriateness of HCBS from the end-user perspective.

(3) Collaborating with stakeholder groups to develop, evaluate, or implement strategies to increase utilization of new HCBS outcome measures. Stakeholder groups include but, are not limited to, people with disabilities, Federal- and state-level policymakers; home and community based service providers; advocacy organizations; and Centers for Independent Living.

(4) Collaborating with relevant NIDILRR-sponsored knowledge translation grantees to help promote the uptake of RRTC products by relevant stakeholders and embed the outcome measures into the overall health care measurement system.

(c) Serving as a national resource center related to person-centered measurement of HCBS outcomes:

(1) Disseminating information and providing technical assistance related to HCBS outcome and quality measurement to policymakers, service providers, people with disabilities and their representatives, and other key stakeholders; and

(2) Providing relevant and appropriate training, including graduate, pre-service, and in-service training, to HCBS providers, researchers and quality-measurement personnel, and other disability service providers, to facilitate more effective delivery of HCBS to people with disabilities. This training may be provided through conferences, workshops, public education programs, in-service training programs, and similar activities.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (45 CFR part 75); or (2) selecting an application that meets the priority over an application of comparable merit that does not meet the priority (45 CFR part 75).

Invitational priority: Under an invitational priority, we are particularly interested in applications that meet the priority. However, we do not give an application that meets the priority a preference over other applications (45 CFR part 75).

This notice does not preclude us from proposing additional priorities, requirements, definitions, or selection criteria, subject to meeting applicable rulemaking requirements.

Note: This notice does not solicit applications. In any year in which we choose to use this priority, we invite applications through a notice in the Federal Register.

Executive Orders 12866 and 13563

Electronic Access to This Document: The official version of this document is the document published in the Federal Register. Free Internet access to the official edition of the Federal Register and the Code of Federal Regulations is available via the Federal Digital System at: www.gpo.gov/fdsys. At this site you can view this document, as well as all other documents of ACL published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 18, 2015.
John Tschida,
Director, National Institute on Disability, Independent Living, and Rehabilitation Research.

[FR Doc. 2015-12308 Filed 5-20-15; 8:45 am]

BILLING CODE 4154-01-P